ADVISORY COUNCIL ON HISTORIC PRESERVATION

Notice of Performance Review Board

AGENCY: Advisory Council on Historic Preservation.

ACTION: Notice of performance review board.

SUMMARY: Appointment of individuals to serve as members of the Performance Review Board.

DATES: These appointments are applicable on January 22, 2024.

FOR FURTHER INFORMATION CONTACT: Javier E. Marqués, General Counsel, Advisory Council on Historic Preservation, jmarques@achp.gov; 202-517-0192.

SUPPLEMENTARY INFORMATION: The Chair of the Advisory Council on Historic Preservation (ACHP) has appointed the following individuals to serve on the ACHP's Performance Review Board (PRB):

Chairperson of the PRB: Kristopher B. King

Member—Dr. Teresa R. Pohlman

Member—Joy Beasley

Authority: 5 U.S.C. 4314(c)(4).

Dated: January 22, 2024.
Javier E. Marqués,
General Counsel.

[FR Doc. 2024-01476 Filed 1-24-24; 8:45 am]

BILLING CODE 4310-K6-P